DEPARTMENT OF AGRICULTURE

Forest Service

Black Hills National Forest, South Dakota and Wyoming, Black Hills Resilient Landscapes Project

AGENCY: Forest Service, USDA.

ACTION: Notice of intent to prepare an environmental impact statement.

SUMMARY: The Forest Service is proposing forest resilience management actions on portions of approximately 1,098,000 acres of National Forest System lands managed by the Black Hills National Forest.

The project area consists of lands within the treatment areas designated on the Black Hills National Forest in South Dakota and Wyoming under the authority of the Healthy Forests Restoration Act (HFRA, 16 U.S.C. 6591). The Black Hills Resilient Landscapes Project will be carried out in accordance with HFRA title VI, section 602(d)—Insect and Disease Infestation.

Since 1997, the Black Hills National Forest has experienced epidemic levels of mountain pine beetle infestation. The epidemic now appears to be slowing in most parts of the forest, but the infestation has left behind a changed landscape. Action is needed to address accumulations of fuels, undesirable distribution of forest structures, and other conditions that may decrease the forest's resilience to disturbance.

The purpose of the project is to move landscape-level vegetation conditions in the project area toward objectives of the Black Hills National Forest Land and Resource Management Plan, as amended, in order to increase ecosystem resilience to insect infestation and other natural disturbances, contribute to public safety and the local economy, and reduce risk of wildfire to landscapes and communities.

The Forest Service will prepare an Environmental Impact Statement to disclose the potential environmental effects of implementing resilience treatments on National Forest System lands within the project area.

DATES: Comments concerning the scope of the analysis must be received by September 26, 2016. The draft environmental impact statement is expected in April 2017 and the final environmental impact statement is expected in October 2017.

ADDRESSES: Send written comments to BHRL Project, Black Hills National Forest, 1019 North 5th Street, Custer, SD 57730, or via facsimile to 605-673-9350, c/o BHRL Project. Written comments also may be hand-delivered to the above address between 8:00 a.m. and 4:30 p.m. Mountain time, Monday through Friday except federal holidays. Comments may also be submitted electronically at http://tinyurl.com/BHRLProjectComment.

FOR FURTHER INFORMATION CONTACT: Rhonda O'Byrne, Project Manager, at 605-642-4622. Individuals who use telecommunication devices for the deaf (TDD) may call the Federal Information Relay Service (FIRS) at 1-800-877-8339 between 8 a.m. and 8 p.m., Eastern Time, Monday through Friday.

SUPPLEMENTARY INFORMATION:

Purpose and Need for Action

Since 1997, the Black Hills National Forest has experienced epidemic levels of mountain pine beetle infestation. Beetles have infested and killed trees on approximately 215,000 acres. In some areas, there are very few live, mature pine remaining. In others, the beetles only attacked pockets of trees, or very few trees. The Forest Service and its partners have responded to the epidemic by reducing stand susceptibility to beetle infestation, recovering the value of some infested trees, protecting recreation areas, and decreasing fuel build-up in some areas.

The epidemic now appears to be slowing in most parts of the forest, but the beetles have left behind a changed landscape. Much of the forest is more open. The distribution of pine forest structure has moved away from desired conditions. The Black Hills National Forest Land and Resource Management Plan (“Forest Plan”) sets these desired conditions. They are a critical part of maintaining a landscape that provides diverse habitat and is resilient to disturbance.

Pine forest structure objectives apply to most of the National Forest. The current condition of some structural stages is inconsistent with the desired condition. Over time, the open and young forest structures resulting from the infestation are likely to develop characteristics that will decrease the forest's resilience to insect infestation, wildfire, and other disturbances. In the newly open stands, natural reforestation is occurring as pine seedlings become established. Ponderosa pine regenerates prolifically in the Black Hills, and often there are so many small trees that they become crowded and must compete for limited resources. Growth slows, stems remain thin, and heavy snow can result in widespread damage. There is a need to manage these new stands to prevent stagnation and allow transition to other structural stages.

Mountain pine beetles most often infest dense pine stands. As a result of the epidemic, acreage of mature, moderately dense pine stands has decreased below Forest Plan objective levels. Mature, dense pine stands are still slightly above objective levels, though most of them are concentrated in a few areas that experienced less beetle infestation. There is a need to increase mature, moderately dense pine stands and maintain mature, dense pine stands. Late succession pine forests in the Black Hills provide habitat diversity and enhance scenery. There are fewer late succession stands than desired, and there is a need to maintain and enhance old stands to work toward meeting this objective.

The beetle infestation also has resulted in hazardous fuels in the form of dead trees. The trees usually fall within a few years of being infested and can pile up and cause uncharacteristically high fuel loadings. These fuels are unlikely to ignite easily, but if they do catch fire they can burn intensely, damaging soils and causing problems for firefighters. In addition, the dead trees pose an increased hazard to public health and safety, infrastructure, and communities. There is a need to reduce this hazard, especially near populated areas and critical infrastructure.

Mature ponderosa pine are often resistant to fire, especially if there is some space between trees or if they have had periodic exposure to low-level fire. Small pine trees are not resistant to fire, and dense patches can allow a fire to spread both vertically and horizontally. There is a need to thin out these small trees to prevent development of a fire hazard. Historically, fire was a major force shaping the composition and distribution of Black Hills plant communities and ecological processes. Fire suppression over the last 140 years has altered plant communities and allowed fuels to accumulate, especially in less accessible areas. There is a need to use prescribed fire to efficiently reduce fuel buildup while providing the ecosystem benefits of a disturbance process that native species evolved with.

Ponderosa pine covers most of the Black Hills. Other tree species and grasslands diversify habitat and scenery while increasing ecosystem resilience to disturbance. Hardwood trees such as aspen and oak are resistant to fire and to the insects that infest pine. Aspen stands recover quickly from disturbance. Over time, however, these areas can become overgrown with conifers. This encroachment can cause old hardwood stands and grasslands to lose vigor and gradually disappear. There is a need to maintain and perpetuate these ecosystem components.

In response to these needs, the Forest Service is proposing actions to move landscape-level vegetation conditions in the project area toward objectives of the Forest Plan in order to increase ecosystem resilience to insect infestation and other natural disturbances, contribute to public safety and the local economy, and reduce risk of wildfire to landscapes and communities.

The Black Hills National Forest Advisory Board has agreed to serve as the formal collaborator for this project under HFRA authority.

Proposed Action

The proposed action addresses the purpose and need through a combination of forest vegetation management actions. Activities would start in approximately 2018 and continue for up to 10 years.

Where heavy down fuels or dense stands of small pine exist adjacent to residential areas, main access roads, major power lines, and other developments or infrastructure, the project would reduce fire hazard by thinning, chipping, piling, or otherwise removing or rearranging fuels. Work would focus on priority areas. Where slopes are too steep for other types of treatment, the project would burn pockets of hazardous fuels. These activities would occur on 3,000 to 7,000 acres annually. Fuel reduction work would include cutting of standing beetle-killed trees that could fall and block main access roads. The project proposes prescribed burning on up to 10,000 acres per year, primarily in the southern half of the Black Hills.

The project would cut encroaching pine from areas of hardwoods and grasslands. Pine removal from aspen would take place on up to 6,000 acres. Pine removal from oak stands would take place on up to 3,000 acres. Pine would be cut from encroached grasslands on up to 5,600 acres. Regeneration of declining aspen stands would occur on up to 5,000 acres.

Currently, approximately 43 percent of project area pine stands consist of open, mature forest, while the objective is 25 percent. The project proposes to convert some of these mature stands to young stands by removing some or all of the mature trees if there are enough pine seedlings and saplings to make a new stand. This may occur on up to a total of about 100,000 acres out of the total 300,000 acres of open, mature pine forest. The intent of this project is not to create very large areas of forest that is all alike. Therefore, the project would include limits on the maximum contiguous acreage of any one forest condition that could be created.

Existing roads provide access to most of the potential treatment stands. To conduct proposed activities in areas without existing roads, it may be necessary to construct up to 15 miles of permanent roads and 44 miles of temporary roads.

The project would conduct fuel treatments in some of the remaining mature, dense pine stands. Because the objective is to increase moderately dense mature forest, mature trees in these stands would generally not be cut. There would be exceptions, such as removing beetle-infested trees or thinning to reduce hazardous fuels adjacent to homes.

The forest is below objectives for late succession forest. In some stands that are nearing late succession conditions, especially those with open canopies, the project would thin or burn understory vegetation to enhance late succession characteristics and increase stand resilience.

Removing some of the small trees in young stands (precommercial thinning) increases the vigor of the remaining saplings and prevents stagnation. The project would precommercially thin up to 25,000 acres per year.

Connected actions include road improvement, non-native invasive weed treatment, and other activities. The proposed action includes design features and mitigation necessary to ensure project compliance with directives, regulations, and Forest Plan standards and guidelines. Go to http://tinyurl.com/BHRLProject for more detailed information and maps of the project area and proposed treatments.

Forest Plan Amendments

If necessary to meet the project's purpose and need, the Forest Service may need to amend the Forest Plan in regard to reducing fuel loading by removing logging slash in certain areas.

Responsible Official

Mark Van Every, Black Hills National Forest Supervisor.

Nature of Decision To Be Made

This proposed action is a proposal, not a decision. The Forest Supervisor of the Black Hills National Forest will decide whether to implement the action as proposed, whether to take no action at this time, or whether to implement any alternatives that are analyzed. The Forest Supervisor will also decide whether to amend the Forest Plan if necessary to implement the decision.

Preliminary Issues

Anticipated issues include effects on threatened, endangered, and sensitive species, changes to scenery, and the unique fire hazards posed by fallen trees and regenerating stands.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: August 15, 2016.
Jim Zornes,
Acting Forest Supervisor.

[FR Doc. 2016-20382 Filed 8-24-16; 8:45 am]

BILLING CODE 3410-11-P